DEPARTMENT OF HOMELAND SECURITY

Coast Guard

33 CFR Part 117

[CGD07-07-021]

Drawbridge Operation Regulations; Atlantic Intracoastal Waterway, Mile 1012.6, North Palm Beach, Palm Beach County, FL

AGENCY: Coast Guard, DHS.

ACTION: Notice of temporary deviation from regulations.

SUMMARY: The Commander, Seventh Coast Guard District, has issued a temporary deviation from the regulations governing the operation of the PGA Boulevard Drawbridge, across the Atlantic Intracoastal Waterway mile 1012.6, North Palm Beach, Palm Beach County, Florida. This deviation allows the drawbridge to remain on single-leaf operations with a double-leaf opening available with a two-hour notice to the bridge tender. This deviation allows for several drawbridge closures in order to complete bridge repairs. The exact dates of the drawbridge closures will be published in the Local Notice to Mariners. The deviation is necessary to provide for worker and mariner safety during repairs to the drawbridge.

DATES: This deviation is effective from February 26, 2007 until 7 p.m. on March 31, 2007.

ADDRESSES: Material received from the public, as well as documents indicated in this preamble as being available in the docket [CGD07-07-021] will become part of this docket and will be available for inspection or copying at Commander (dpb), Seventh Coast Guard District, 909 SE. 1st Avenue, Room 432, Miami, Florida 33131-3050 between 7:30 a.m. and 4 p.m., Monday through Friday, except Federal holidays.

FOR FURTHER INFORMATION CONTACT: Mr. Michael Lieberum, Seventh Coast Guard District, Bridge Branch at (305) 415-6744.

SUPPLEMENTARY INFORMATION: The PGA Boulevard Drawbridge, across the Atlantic Intracoastal Waterway mile 1012.6, North Palm Beach, Palm Beach County, Florida, is being repaired. The contractor representing The Florida Department of Transportation notified the Coast Guard that the current operation of the drawbridge would need to be temporarily changed to allow for final repairs to the structure. The current operating regulation in 33 CFR 117.261(s) requires that the drawspan shall open on the hour and half-hour.

Under this deviation, the PGA Boulevard Drawbridge, across the Atlantic Intracoastal Waterway mile 1012.6, North Palm Beach, Palm Beach County, Florida, will operate the drawspan on single-leaf operations with a double-leaf opening available with a two-hour notice to the bridge tender. This deviation will allow for several closures in order to complete bridge repairs. The exact dates of the closures will be published in the Local Notice to Mariners. This deviation from the operating regulation is authorized under 33 CFR 117.35.

Dated: February 13, 2007.
Greg Shapley,
Chief, Bridge Administration, Seventh Coast Guard District.

[FR Doc. E7-3201 Filed 2-23-07; 8:45 am]

BILLING CODE 4910-15-P